DEPARTMENT OF LABOR

Employment and Training Administration

[TA-W-52,095]

Honeywell Control Products, Mars Hill, NC; Notice of Termination of Investigation

Pursuant to section 221 of the Trade Act of 1974, as amended, an investigation was initiated on June 19, 2003 in response to a worker petition filed by a company official on behalf of workers at Honeywell, Control Products, Mars Hill, North Carolina.

The petitioner has requested that the petition be withdrawn. Consequently, the investigation has been terminated.

Signed at Washington, DC this 26th day of June, 2003.
Elliott S. Kushner,
Certifying Officer, Division of Trade Adjustment Assistance.

[FR Doc. 03-17451 Filed 7-9-03; 8:45 am]

BILLING CODE 4510-30-P